Title 3—

The President

Proclamation 8055 of September 21, 2006

National Employer Support of the Guard and Reserve Week, 2006

By the President of the United States of America

A Proclamation

In times of war or crisis, the citizen-soldiers of our National Guard and Reserve are ready and willing to answer the call of duty. During National Employer Support of the Guard and Reserve Week, we express our deep gratitude to these brave men and women and to the employers who support them and enable them to serve.

Members of the National Guard and Reserve put on the uniform of the United States when our country needs them most. In the war on terror, thousands of these civilians from all walks of life have been called away from their jobs and families and mobilized for duty around the world. They are performing many different missions, but all are working to deliver the blessings of freedom to people who have not known liberty.

Here at home, the National Guard is working to protect our borders, and National Guard personnel and Reservists help rebuild communities and bring comfort, security, and healing to individuals in the aftermath of hurricanes and other natural disasters. The dedicated service of our National Guard and Reserve personnel is vital to the security of our Nation, and these patriots are an inspiration and source of pride to all Americans.

We also appreciate the commitment of the civilian employers of these courageous men and women. By providing time off, pay, health care benefits, and job security, these employers help members of the National Guard and Reserve and their families serve our country and prepare for their return to civilian life. In offices, schools, factories, and small businesses across America, employers operate without some of their most talented people, and America appreciates their support and the support they provide to their employees in our National Guard and Reserve.

National Employer Support of the Guard and Reserve Week is an important opportunity to express our country's debt of gratitude to the men and women of the National Guard and Reserve and to all the employers who stand behind these dedicated individuals.

NOW, THEREFORE, I, GEORGE W. BUSH, President of the United States of America, by virtue of the authority vested in me by the Constitution and laws of the United States, do hereby proclaim September 24 through September 30, 2006, as National Employer Support of the Guard and Reserve Week. I encourage all Americans to join me in expressing our thanks to members of our National Guard and Reserve and their civilian employers for their patriotic sacrifice on behalf of our Nation. I also call upon State and local officials, private organizations, businesses, and all military commanders to observe this week with appropriate ceremonies and activities.

IN WITNESS WHEREOF, I have hereunto set my hand this twenty-first day of September, in the year of our Lord two thousand six, and of the Independence of the United States of America the two hundred and thirty-first.

[FR Doc. 06-8303

Filed 9-25-06; 8:45 am]

Billing code 3195-01-P